ENVIRONMENTAL PROTECTION AGENCY

40 CFR Part 52

[EPA-R03-OAR-2017-0479; FRL-9968-42-Region 3]

Air Quality Plans; Pennsylvania; Lebanon County 2012 Fine Particulate Matter Standard Determination of Attainment

AGENCY: Environmental Protection Agency (EPA).

ACTION: Proposed rule.

SUMMARY: The Environmental Protection Agency (EPA) is proposing to determine that the Lebanon County, Pennsylvania nonattainment area (the Lebanon County Area) has attained the 2012 annual fine particulate matter (PM2.5) national ambient air quality standards (NAAQS). This proposed determination of attainment, also known as a clean data determination, is based on quality assured and certified ambient air quality data for the 2014-2016 monitoring period. If finalized, the effect of this determination of attainment would be to suspend certain planning requirements for the area, including the requirement to submit an attainment demonstration and associated reasonably available control measures (RACM), a reasonable further progress (RFP) plan, and contingency measures. These requirements would be suspended for as long as the area continues to meet the 2012 annual PM2.5 NAAQS. However, this proposed action is not a redesignation to attainment for the area. This action is being taken under the Clean Air Act (CAA).

DATES: Written comments must be received on or before December 4, 2017.

ADDRESSES: Submit your comments, identified by Docket ID No. EPA-R03-OAR-2017-0479 at http://www.regulations.gov, or via email to stahl.cynthia@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the Web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Maria A. Pino, (215) 814-2181, or by email at pino.maria@epa.gov.

SUPPLEMENTARY INFORMATION:

I. Background

On December 14, 2012, EPA promulgated a revised primary annual PM2.5 NAAQS to provide increased protection of public health from fine particle pollution (the 2012 PM2.5 NAAQS). See 78 FR 3086 (January 15, 2013). In that action, EPA strengthened the primary annual PM2.5 standard, lowering the level from 15.0 micrograms per cubic meter (μg/m³) to 12.0 μg/m³. The 2012 PM2.5 NAAQS is attained when the 3-year average of the annual arithmetic means does not exceed 12.0 mg/m³. See 40 CFR 50.18. On December 18, 2014 (80 FR 2206), EPA made designation determinations, as required by CAA section 107(d)(1), for the 2012 PM2.5 NAAQS. In that action, EPA designated the Lebanon County Area as moderate nonattainment for the 2012 annual PM2.5 NAAQS. See 40 CFR 81.339.

Under EPA's longstanding Clean Data Policy,¹ which was codified in EPA's Clean Air Fine Particulate Implementation Rule (72 FR 20586, April 25, 2007), EPA may issue a determination of attainment after notice and comment rulemaking determining that a specific area is attaining the relevant standard. See 40 CFR 51.1004. The effect of a clean data determination is to suspend the requirement for the area to submit an attainment demonstration, RACM, RFP plan, contingency measures, and any other planning State Implementation Plans (SIPs) related to attainment for as long as the area continues to attain the standard.

¹ “Clean Data Policy for the Fine Particle National Ambient Air Quality Standards,” Memorandum from Stephen D. Page, December 14, 2004.

In EPA's Fine Particulate Matter National Ambient Air Quality Standards: State Implementation Plan Requirements (81 FR 58010, August 24, 2016), EPA reaffirmed the Clean Data Policy at 40 CFR 51.1015. The rule states that, upon a determination by EPA that a moderate PM2.5 nonattainment area has attained the PM2.5 NAAQS, the requirements for the state to submit an attainment demonstration, RACM (including reasonably available control technology (RACT) for stationary sources), RFP, quantitative milestones and quantitative milestone reports, and contingency measures for the area shall be suspended until such time as: (1) The area is redesignated to attainment, after which such requirements are permanently discharged; or, (2) EPA determines that the area has re-violated the PM2.5 NAAQS, at which time the state shall submit such attainment plan elements for the moderate nonattainment area by a future date to be determined by EPA and announced through publication in the Federal Register at the time EPA determines the area is violating the PM2.5 NAAQS. See 40 CFR 51.1015.

II. EPA's Evaluation

Under EPA regulations at 40 CFR part 50, § 50.18 and appendix N, the annual primary PM2.5 standard is met when the 3-year average of PM2.5 annual mean mass concentrations for each eligible monitoring site is less than or equal to 12 μg/m³. Three years of valid annual means are required to produce a valid annual PM2.5 NAAQS design value. A year meets data completeness requirements when quarterly data capture rates for all four quarters are at least 75 percent (%) from eligible monitoring sites. See 40 CFR part 50, appendix N.

By letter dated May 17, 2017, Pennsylvania certified its 2016 ambient air quality monitoring data. EPA issued final 2014-2016 design values on July 27, 2017. There is one PM2.5 monitor in the Lebanon County Area. Table 1 shows the Lebanon County Area design value for the 2012 annual PM2.5 NAAQS for the years 2014-2016 at the Lebanon County monitor.

Consistent with the requirements contained in 40 CFR part 50, EPA has reviewed the PM2.5 ambient air quality monitoring data for the 2014-2016 monitoring period for the Lebanon County Area, as recorded in EPA's Air Quality System (AQS) database. This data can be found at http://www.regulations.gov in the docket for this action, Docket ID No. EPA-R03-OAR-2017-0479. As shown in Table 1, the data indicate a declining trend in PM2.5 levels, with annual means decreasing steadily from 2014 to 2016.

As shown in Table 2, all but one quarter in 2014-2016 is complete, reporting data capture rates of at least 75%. The second quarter in 2015 had a data capture rate of 70%. However, EPA can calculate a valid design value for a monitor that doesn't meet the 75% capture rate each quarter, as long as there is at least 50% data capture in each quarter. In that case, EPA can perform a data substitution test, known as the maximum quarter test, pursuant to 40 CFR part 50, appendix N, section 4.1(c)(ii). EPA routinely performs this test for monitors with deficient quarters (i.e., those with less than 75% but at least 50% data capture). EPA first identifies the highest reported daily value for that quarter, looking at that same quarter for all three years used to calculate the design value. EPA substitutes the highest reported daily PM2.5 value for that quarter for all missing daily data in the deficient quarter to make that quarter 100% complete. Then, EPA calculates a test design value (TDV) for the three-year period. If that recalculated annual PM2.5 design value is less than or equal to the level of the standard, then the annual PM2.5 design value passes the test and is valid, and the annual PM2.5 NAAQS is deemed to have been met in that 3-year period.

In this case, the second quarter in 2015 was deficient. The monitor recorded 64 out of the 91 possible daily values in that quarter, which included April, May, and June of 2015. Therefore, EPA looked at data recorded at the Lebanon monitor in the second quarters of 2014, 2015, and 2016, and identified the highest daily value, which was 30.5 μg/m³. EPA substituted that value 27 times to account for the 27 missing daily values in 2017 and calculated a TDV of 11.7 μg/m³ which is lower than the level of the 2012 PM2.5 NAAQS. Therefore, the Lebanon County monitor passed the maximum quarter test, and has a valid design value for the 2014-2016 monitoring period. The certified annual design value for 2014-2016 is 11.2 μg/m³, which is below the 2012 annual primary PM2.5 standard of 12 μg/m³. Therefore, the Lebanon County Area has attained the 2012 annual PM2.5 NAAQS in accordance with the requirements in 40 CFR part 50, § 50.18 and appendix N.

Table 1—2014-2016 Annual PM2.5 Values for Lebanon County, Pennsylvania
Monitor ID | Annual mean (μg/m³): 2014 | Annual mean (μg/m³): 2015 | Annual mean (μg/m³): 2016 | Complete quarters: 2014 | Complete quarters: 2015 | Complete quarters: 2016 | 2014-2016 Certified annual design value (μg/m³)
420750100 | 12.73 | 11.15 | 9.72 | 4 | 3 | 4 | 11.2

Table 2—Data Capture Rates (%) and Creditable Samples by Quarter (Q)
| 2014: Q1 | 2014: Q2 | 2014: Q3 | 2014: Q4 | 2015: Q1 | 2015: Q2 | 2015: Q3 | 2015: Q4 | 2016: Q1 | 2016: Q2 | 2016: Q3 | 2016: Q4
Creditable Samples | 89 | 89 | 90 | 84 | 90 | 64 | 76 | 85 | 91 | 91 | 91 | 92
Capture Rate | 99 | 98 | 98 | 91 | 100 | 70 | 83 | 92 | 100 | 100 | 99 | 100

III. Proposed Action

EPA is proposing to determine that the Lebanon County Area has attained the 2012 annual PM2.5 NAAQS. As provided in 40 CFR 51.1015, finalization of this determination suspends the requirements for this area to submit an attainment demonstration, associated RACM, RFP plan, contingency measures, and any other planning SIP requirements related to the attainment of the 2012 PM2.5 NAAQS, so long as this area continues to meet the standard. This determination of attainment does not constitute a redesignation to attainment. The Lebanon County Area will remain designated nonattainment for the 2012 annual PM2.5 NAAQS until such time as EPA determines that the area meets the CAA requirements for redesignation to attainment, including an approved maintenance plan, pursuant to sections 107 and 175A of the CAA.

EPA is soliciting public comments on the issues discussed in this document. These comments will be considered before taking final action.

IV. Statutory and Executive Order Reviews

This rulemaking action proposes to make a determination of attainment of the 2012 PM2.5 NAAQS based on air quality and, if finalized, would not impose additional requirements. For that reason, this proposed determination of attainment:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule to determine that the Lebanon County Area attained the 2012 PM2.5 NAAQS does not have tribal implications, as specified by Executive Order 13175 (65 FR 67249, November 9, 2000), because this proposed determination of attainment does not apply in Indian country located in the states and because EPA notes that it will not impose substantial direct costs on tribal governments or preempt tribal law.

List of Subjects in 40 CFR Part 52

Environmental protection, Air pollution control, Incorporation by reference, Intergovernmental relations, Particulate matter, Reporting and recordkeeping requirements.

Authority: 42 U.S.C. 7401 et seq.

Dated: October 19, 2017.
Cosmo Servidio,
Regional Administrator, Region III.

[FR Doc. 2017-23568 Filed 11-1-17; 8:45 am]

BILLING CODE 6560-50-P